DEPARTMENT OF THE INTERIOR

Bureau of Land Management

[NM-220-1430-ES; NMNM-109919]

Notice of Realty Action; Recreation and Public Purposes (R&PP) Act Classification; New Mexico

AGENCY: Bureau of Land Management, Interior.

ACTION: Notice.

SUMMARY: The following public lands in Santa Fe County, New Mexico have been examined and found suitable for classification for lease or conveyance to the Town of Edgewood, under the provisions of the Recreation and Public Purposes Act, as amended (43 U.S.C. 869 et seq.).

FOR FURTHER INFORMATION CONTACT: Lora Yonemoto, Realty Specialist, (505) 751-4709.

SUPPLEMENTARY INFORMATION: The following described public land in Santa Fe County, New Mexico, has been examined and found suitable for conveyance for recreational or public purposes under the provisions of the Recreation and Public Purposes Act, as amended (43 U.S.C. 869 et.seq.). The Town of Edgewood proposes to use the lands for a recreation area, to include developed picnic areas, hiking, mountain bike and equestrian trails, a horse use area, and a Town public works facility.

New Mexico Principal Meridian

T. 10 N., R. 7 E.,

Sec. 34, lots 1 through 4 and N1/2SE1/4;

Containing approximately 248.720 acres.

The lands are not needed for Federal Purposes. Lease or conveyance is consistent with current BLM land use planning and would be in the public interest.

The lease/conveyance, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

Detailed information concerning this action is available for review at the office of the Bureau of Land Management, Taos Field Office, 226 Cruz Alta Rd., Taos, NM 87571.

On December 14, 2004, the lands will be segregated from all other forms of appropriation under the public land laws, including the general mining laws, except for lease or conveyance under the Recreation and Public Purposes Act and leasing under the mineral leasing laws. Interested persons may submit comments regarding the proposed lease/conveyance or classification of the lands to the Field Office Manager, BLM Taos Office, 226 Cruz Alta Road, Taos, New Mexico 87571 until January 28, 2005.

Classification Comments: Interested parties may submit comments involving the suitability of the land for a recreation area and public works facility to the Town of Edgewood. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for the proposed use.

Any adverse comments will be reviewed by the State Director. In the absence of any adverse comments, the classification will become effective on February 14, 2005.

Sam DesGeorges,
Field Office Manager.

[FR Doc. 04-27296 Filed 12-13-04; 8:45 am]

BILLING CODE 4310-FB-P